POSTAL REGULATORY COMMISSION

Sunshine Act Meetings

AGENCY: Postal Regulatory Commission.

TIME AND DATE: Thursday, October 1, 2009 at 10:30 a.m.

PLACE: Commission conference room, 901 New York Avenue, NW., Suite 200, Washington, DC 20268-0001.

STATUS: Open.

MATTERS TO BE CONSIDERED: Selection of vice chairman.

CONTACT PERSON FOR MORE INFORMATION: Stephen L. Sharfman, General Counsel, Postal Regulatory Commission, 901 New York Avenue, NW., Suite 200, Washington, DC 20268-0001, 202-789-6820 or stephen.sharfman@prc.gov.

Dated: September 14, 2009.
Shoshana M. Grove,
Secretary.

[FR Doc. E9-22436 Filed 9-14-09; 4:15 pm]

BILLING CODE 7710-FW-P